AGENCY FOR INTERNATIONAL DEVELOPMENT

Bureau for Democracy, Conflict and Humanitarian Assistance; Office of Food for Peace; Announcement of Draft Food for Peace Pub. L. 480 Title II Program Policies and Proposal Guidelines (FY 07)

Pursuant to the Agricultural Trade Development and Assistance Act of 1954 (Public Law 480, as amended), notice is hereby given that the Draft Food for Peace Pub. L. 480 Title II Program Policies and Proposal Guidelines (FY 07) are being made available to interested parties for the required thirty (30) day comment period.

Individuals who wish to receive a copy of these draft guidelines should contact: Office of Food for Peace, U.S. Agency for International Development, RRB 7.06-102, 1300 Pennsylvania Avenue, NW., Washington, DC 20523-7600. The draft guidelines may also be found at http://www.usaid.gov/our_work/ humanitarian_assistance/ffp/fy07_myap.html. Individuals who have questions or comments on the draft guidelines should contact Lisa Witte at the above address, at (202) 712-5162 or lwitte@usaid.gov. The thirty-day comment period will begin on the date that this announcement is published in the Federal Register.

Lisa Witte,
Acting Chief, Policy and Technical Division, Office of Food for Peace, Bureau for Democracy, Conflict and Humanitarian Assistance.

[FR Doc. 06-1933 Filed 3-1-06; 8:45 am]

BILLING CODE 6116-01-P